DEPARTMENT OF THE INTERIOR

Fish and Wildlife Service

[FWS-R1-ES-2015-N008; FXES11120100000-156-FF01E00000]

Draft Environmental Impact Statement and Draft Habitat Conservation Plan for the Na Pua Makani Wind Energy Project, Oahu, HI

AGENCY: Fish and Wildlife Service, Interior.

ACTION: Notice of availability; request for comments.

SUMMARY: We, the U.S. Fish and Wildlife Service (Service), have received an application from Na Pua Makani Power Partners, LLC (applicant), for an incidental take permit (ITP) under the Endangered Species Act of 1973, as amended (ESA). The applicant is requesting an ITP to authorize take of one threatened and six endangered species (“covered species”). If issued, the ITP would authorize incidental take of the covered species that may occur as a result of the construction and operation of the Na Pua Makani Wind Energy Project (Project). The ITP application includes a draft Habitat Conservation Plan (HCP) describing the applicant's actions and the measures the applicant will implement to minimize, mitigate, and monitor incidental take of the covered species. The Service also announces the availability of a draft Environmental Impact Statement (EIS) that has been prepared in response to the permit application in accordance with requirements of the National Environmental Policy Act (NEPA). We are making the ITP application, including the draft HCP and the draft EIS, available for public review and comment.

DATES: To ensure consideration, please send your written comments by August 11, 2015.

ADDRESSES: To request further information or submit written comments, please use one of the following methods, and note that your information request or comments are in reference to the Na Pua Makani HCP, draft EIS, and the proposed issuance of the ITP:

• Internet: Documents may be viewed on the internet at http://www.fws.gov/pacificislands/.

• Email: NaPuaMakanihcp@fws.gov. Include “Na Pua Makani HCP and draft EIS” in the subject line of the message.

• U.S. Mail: Field Supervisor, U.S. Fish and Wildlife Service, Pacific Islands Fish and Wildlife Office, 300 Ala Moana Boulevard, Room 3-122, Honolulu, Hawaii 96850.

• Fax: 808-792-9581, Attn: Field Supervisor. Include “Na Pua Makani HCP and draft EIS” in the subject line of the message.

• In-Person Drop-off, Viewing, or Pickup: Comments and materials received will be available for public inspection, by appointment, during normal business hours at the U.S. Fish and Wildlife Service, Pacific Islands Fish and Wildlife Office, 300 Ala Moana Boulevard, Room 3-122, Honolulu, Hawaii 96850. Written comments can be dropped off during regular business hours at the above address on or before the closing date of the public comment period (see DATES).

FOR FURTHER INFORMATION CONTACT: Ms. Jodi Charrier (Renewable Energy Coordinator) or Mr. Aaron Nadig (Oahu, Kauai, American Samoa Geographic Deputy Field Supervisor), U.S. Fish and Wildlife Service (see ADDRESSES above); by telephone 808-792-9400; or by email at NaPuaMakanihcp@fws.gov. If you use a telecommunications device for the deaf, please call the Federal Information Relay Service at 800-877-8339.

SUPPLEMENTARY INFORMATION: We have received an application from Na Pua Makani Power Partners, LLC (applicant), a subsidiary of Champlin Hawaii Wind Holdings, LLC, for an incidental take permit (ITP) under the ESA (16 U.S.C. 1531 et seq.). The applicant is requesting an ITP to authorize take of the threatened Newell's shearwater (Puffinus auricularis newelli), and the endangered Hawaiian stilt (Himantopus mexicanus knudseni), Hawaiian coot (Fulica americana alai), Hawaiian moorhen, (Gallinula chloropus sandvicensis), Hawaiian duck (Anas wyvilliana), Hawaiian goose (Branta sandvicensis), and Hawaiian hoary bat (Lasiurus cinereus semotus) (collectively these seven species are hereafter referred to as the “covered species”). If issued, the ITP would authorize incidental take of the covered species that may occur as a result of the construction and operation of the Na Pua Makani Wind Energy Project (Project). The ITP application includes a draft Habitat Conservation Plan (HCP) describing the applicant's actions and the measures the applicant will implement to minimize, mitigate, and monitor incidental take of the covered species. The Service also announces the availability of a draft Environmental Impact Statement (EIS) that has been prepared in response to the permit application in accordance with requirements of the National Environmental Policy Act (NEPA). We are making the ITP application, including the draft HCP and the draft EIS, available for public review and comment.

Background

Section 9 of the ESA prohibits take of fish and wildlife species listed as endangered or threatened under section 4 of the ESA. Under the ESA, the term “take” means to harass, harm, pursue, hunt, shoot, wound, kill, trap, capture, or collect, or to attempt to engage in any such conduct (16 U.S.C. 1532(19)). The term “harm,” as defined in our regulations, includes significant habitat modification or degradation that results in death or injury to listed species by significantly impairing essential behavioral patterns, including breeding, feeding, or sheltering (50 CFR 17.3). The term “harass” is defined in our regulations as to carry out actions that create the likelihood of injury to listed species to such an extent as to significantly disrupt normal behavioral patterns, which include, but are not limited to, breeding, feeding, or sheltering (50 CFR 17.3).

However, under specified circumstances, the Service may issue permits that authorize take of federally listed species, provided the take is incidental to, but not the purpose of, an otherwise lawful activity. Regulations governing permits for endangered and threatened species are at 50 CFR 17.22 and 17.32, respectively. Section 10(a)(1)(B) of the ESA contains provisions for issuing such incidental take permits to non-Federal entities for the take of endangered and threatened species, provided the following criteria are met:

(1) The taking will be incidental;

(2) The applicant will prepare a conservation plan that, to the maximum extent practicable, identifies the steps the applicant will take to minimize and mitigate the impact of such taking;

(3) The applicant will ensure that adequate funding for the plan will be provided;

(4) The taking will not appreciably reduce the likelihood of the survival and recovery of the species in the wild; and

(5) The applicant will carry out any other measures that the Service may require as being necessary or appropriate for the purposes of the plan.

Proposed Action

The applicant proposes to construct and operate the wind energy generation Project on approximately 707 acres of public and private lands near the town of Kahuku on the island of Oahu, Hawaii. The western portion of the Project would be located on about 254 acres of State of Hawaii lands managed by the Department of Land and Natural Resources (DLNR). The eastern portion of the Project would be located on about 452 acres of land owned by the Malaekahana Hui West, LLC. Additional parcels would be used to access the Project, for which the applicant would utilize temporary entry permits, licenses or easements.

The proposed Project would have a generating capacity of up to approximately 25 megawatts (MW) and would supply wind-generated electricity to the Hawaii Electric Company (HECO). The Project would consist of up to 10 wind turbine generators (WTGs), 1 permanent un-guyed lattice-frame meteorological tower, up to 5.5 miles of new and existing access roads, an operations and maintenance facility, electrical collection and interconnection infrastructure, an electrical substation, and a temporary laydown area. The applicant is considering a variety of WTG models ranging in height and generating capacity. Project WTGs could range in generating capacity from 1.7 MW models to 3.3 MW, and the maximum blade tip height could range from 427 feet to 512 feet above ground level. The applicant will select the most appropriate WTGs prior to construction.

The proposed Project area is surrounded by agricultural farm lands to the north; residential housing, community infrastructure, and agricultural farm lands to the east; a mixture of agricultural farm lands and undeveloped forest lands to the south; and undeveloped forest lands to the west. The James Campbell National Wildlife Refuge is approximately 0.75 mile to the north, and the Malaekahana State Recreation Area is 0.1 mile to the east. The operational 30-MW Kahuku wind project abuts the proposed Project area to the northwest.

The proposed Project is located on Oahu, where Hawaiian hoary bats are known to have collided with wind turbine structures at the existing 30-MW Kahuku and 69-MW Kawailoa wind projects. The Hawaiian goose and Hawaiian hoary bat are also known to have collided with wind turbine structures at the existing 30-MW Kaheawa I and the 21-MW Kaheawa II wind projects on Maui. The Hawaiian hoary bat is also known to have collided with wind turbine structures at the existing the 21-MW Auwahi wind project on Maui. The Hawaiian goose occurs in the vicinity of the proposed Project and may collide with Project structures. Acoustic monitoring indicates that the Hawaii hoary bat flies in the area proposed for wind turbine development, and that this species may roost in the Project site. Although there have been no known occurrences of Newell's shearwaters, Hawaiian stilts, Hawaiian coots, Hawaiian moorhens, or Hawaiian ducks colliding with wind turbine structures within the State of Hawaii, these covered species may be affected by the applicant's activities associated with the construction and operation of the Project.

The applicant has developed a draft HCP that addresses the incidental take of the seven covered species that may occur as a result of the construction and operation of the Project over a period of 21 years. The draft HCP addresses proposed measures the applicant will implement to minimize, mitigate, and monitor incidental take of the covered species. The applicant has also applied for a State of Hawaii incidental take license under Hawaii State law.

To offset anticipated take, the applicant is proposing mitigation measures on Oahu that include: (1) Funding research to support management of Newell's shearwaters; (2) fencing and predator control to conserve the Hawaiian goose at James Campbell National Wildlife Refuge; (3) a combination of bat research and native forest restoration and management to increase Hawaiian hoary bat habitat; (4) acoustic surveys to document the occupancy of the Hawaiian hoary bat; and (5) fencing and public outreach at Hamakua Marsh to benefit conservation of the Hawaiian stilt, Hawaiian coot, Hawaiian moorhen and the Hawaiian duck. This HCP incorporates adaptive management provisions to allow for modifications to the mitigation and monitoring measures as knowledge is gained during implementation of the HCP.

The Service proposes to approve the HCP and to issue an ITP with a term of 21 years to the applicant for incidental take of the covered species caused by covered activities associated with the construction and operation of the Project, if permit issuance criteria are met.

National Environmental Policy Act Compliance

The development of the draft HCP and the proposed issuance of an ITP under this plan is a Federal action that triggers the need for compliance with NEPA (42 U.S.C. 4321 et seq.). We have prepared a draft EIS to analyze the environmental impacts of three alternatives related to the issuance of the ITP and implementation of the conservation program under the proposed HCP. The three alternatives include the proposed action, a no-action alternative, and a larger wind energy generation project alternative.

The proposed action alternative is construction and operation of the Project, implementation of the HCP, and issuance of the ITP.

Under the no-action alternative, the proposed Project would not be constructed, the proposed HCP would not be implemented, and no ITP would be issued.

The larger wind energy generation project alternative would include the construction and operation of a larger generation facility of up to 42 MW. This alternative would consist of up to 12 WTGs, each with a generating capacity of up to 3.3 MW, implementation of a HCP, and issuance of the ITP.

Public Comments

You may submit your comments and materials by one of the methods listed in the ADDRESSES section. We specifically request information, views, and opinions from the public on our proposed Federal action, including identification of any other aspects of the human environment not already identified in the draft EIS pursuant to NEPA regulations in the Code of Federal Regulations (CFR) at 40 CFR 1506.6. Further, we specifically solicit information regarding the adequacy of the Na Pua Makani Wind Energy Project pursuant to the requirements for ITPs at 50 CFR parts 13 and 17.

Public Availability of Comments

All comments and materials we receive become part of the public record associated with this action. Before including your address, phone number, email address, or other personally identifiable information in your comments, you should be aware that your entire comment—including your personally identifiable information—may be made publicly available at any time. While you can ask us in your comment to withhold your personally identifiable information from public review, we cannot guarantee that we will be able to do so. All submissions from organizations or businesses, and from individuals identifying themselves as representatives or officials of organizations or businesses, will be made available for public disclosure in their entirety. Comments and materials we receive, as well as supporting documentation we use in preparing the EIS, will be available for public inspection by appointment, during normal business hours, at our Pacific Islands Field Office (see ADDRESSES).

Next Steps

We will evaluate the permit application, associated documents, and public comments in reaching a final decision on whether the application meets the requirements of section 10(a) of the ESA (16 U.S.C. 1531 et seq.). The HCP and EIS may change in response to public comments. We will prepare responses to public comments and publish a notice of availability of the final HCP and final EIS. We will also evaluate whether the proposed permit action would comply with section 7 of the ESA by conducting an intra-Service section 7 consultation. We will use the results of this consultation, in combination with the above findings, in our final analysis to determine whether or not to issue an ITP. If the requirements are met, we will issue the ITP to the applicant. We will issue a record of decision and issue or deny the ITP no sooner than 30 days after publication of the notice of availability of the final EIS.

Authority

We provide this notice in accordance with the requirements of section 10(c) of the ESA and its implementing regulations (50 CFR 17.22 and 17.32) and NEPA and its implementing regulations (40 CFR 1506.6).

Richard Hannan,
Deputy Regional Director, Pacific Region, U.S. Fish and Wildlife Service, Portland, Oregon.

[FR Doc. 2015-14194 Filed 6-11-15; 8:45 am]

BILLING CODE 4310-55-P